DEPARTMENT OF ENERGY

Federal Energy Regulatory Commission

Sunshine Act Meeting Notice

December 11, 2008.

The following notice of meeting is published pursuant to section 3(a) of the government in the Sunshine Act (Pub. L. No. 94-409), 5 U.S.C. 552b:

Agency Holding Meeting: Federal Energy Regulatory Commission.

Date and Time: December 18, 2008, 10 a.m.

Place: Room 2C, 888 First Street, NE., Washington, DC 20426.

Status: Open.

Matters to be Considered: Agenda.

Note: Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

942ND—Meeting
Item No | Docket No. | Company
Administrative
A-1 | AD02-1-000 | Agency Administrative Matters.
A-2 | AD02-7-000 | Customer Matters, Reliability, Security and Market Operations.
A-3 | AD06-3-000 | Energy Market Update.
Electric
E-1 | EL02-28-006, EL02-33-007, EL02-38-006 | Nevada Power Company and Sierra Pacific Power Company v. Enron Power Marketing, Inc.; El Paso Merchant Energy; American Electric Power Services Corporation.
| EL02-29-006, EL02-30-006, EL02-31-006 | Nevada Power Company v. Morgan Stanley Capital Group; Calpine Energy Services; Mirant Americas Energy Marketing, L.P.
| EL02-32-006, EL02-34-006, EL02-39-006 | Reliant Energy Services; BP Energy Company; Allegheny Energy Supply Company, L.L.C.
| EL02-43-006 | Southern California Water Company v. Mirant Americas Energy Marketing L.P.
| EL02-56-006 | Public Utility District No. 1 Snohomish County, Washington v. Morgan Stanley Capital Group, Inc.
E-2 | EL08-34-002 | Maryland Public Service Commission v. PJM Interconnection, L.L.C.
| EL08-47-002 | PJM Interconnection, L.L.C.
E-3 | ER07-1372-002, ER07-1372-005, ER07-1372-011, ER07-1372-013 | Midwest Independent Transmission System Operator, Inc.
| ER08-1254-000 | Midwest Independent Transmission System Operator, Inc. and Transmission Owners of the Midwest Independent Transmission System Operator, Inc.
| ER08-1257-000, ER08-1257-001 | Midwest Independent Transmission System Operator, Inc.
| ER09-24-000 | Midwest Independent Transmission System Operator, Inc.
E-4 | ER07-1372-007 | Midwest Independent Transmission System Operator, Inc.
E-5 | ER09-14-000, ER09-14-001 | NSTAR Electric Company.
E-6 | ER09-88-000 | Southern Company Services, Inc.
E-7 | RM04-7-005 | Market-Based Rates For Wholesale Sales of Electric Energy, Capacity and Ancillary Services By Public Utilities.
E-8 | RC08-1-001 | Southeastern Power Administration.
E-9 | RC09-3-000 | North American Electric Reliability Corporation and Northeast Power Coordinating Council, Inc.
E-10 | RR06-1-016, RR06-1-017 | North American Electric Reliability Council, North American Electric Reliability Corporation.
| RR07-1-004 | Delegation Agreement Between the North American Electric Reliability Corporation and Texas Regional Entity, a division of ERCOT.
| RR07-2-004 | Delegation Agreement Between the North American Electric Reliability Corporation and Midwest Reliability Organization.
| RR07-3-004, RR07-3-005 | Delegation Agreement Between the North American Electric Reliability Corporation and Northeast Power Coordinating Council, Inc.
| RR07-4-004 | Delegation Agreement Between the North American Electric Reliability Corporation and ReliabilityFirst Corporation.
| RR07-5-005 | Delegation Agreement Between the North American Electric Reliability Corporation and SERC Reliability Corporation.
| RR07-6-004 | Delegation Agreement Between the North American Electric Reliability Corporation and Southwest Power Pool, Inc.
| RR07-7-004, RR07-7-005 | Delegation Agreement Between the North American Electric Reliability Corporation and Western Electricity Coordinating Council.
| RR07-8-004, RR07-8-005 | Delegation Agreement Between the North American Electric Reliability Corporation and Florida Reliability Coordinating Council.
E-11 | ER09-149-000 | Southwest Power Pool, Inc.
E-12 | ER08-1051-000, ER08-1051-001 | NSTAR Electric Company.
E-13 | ER08-1256-000, ER08-1256-001 | Midwest Independent Transmission System Operator, Inc.
E-14 | ER09-15-000 | Midwest Independent Transmission System Operator, Inc.
| ER09-97-000 | Midwest Independent Transmission System Operator, Inc.
E-15 | ER08-1055-000, ER08-1055-001 | Midwest Independent Transmission System Operator, Inc.
| ER08-1042-000, ER08-1042-001, ER08-1042-002 | Midwest Independent Transmission System Operator, Inc.
E-16 | OMITTED
E-17 | ER09-209-000 | ISO New England Inc. and New England Power Pool.
E-18 | ER09-239-000 | California Independent System Operator Corporation.
E-19 | ER09-12-000 | American Electric Power Service Corporation.
E-20 | ER09-187-000, ER08-1343-000, ER08-1353-000 | Southern California Edison Company.
E-21 | OMITTED
E-22 | ER07-869-004, ER07-475-005, ER06-615-030 | California Independent System Operator Corporation.
E-23 | ER08-375-002 | Southern California Edison Company.
E-24 | ER96-78-020 | Southern Company Services, Inc., Alabama Power Company, Georgia Power Company, Gulf Power Company, Mississippi Power Company, Southern Power Company.
E-25 | OMITTED
E-26 | EL09-4-000 | Independent Power Producers of New York, Inc.; Astoria Generating Company, L.P.; ConsumerPower1ine, Inc.; East Coast Power, LLC; Energy Curtailment Specialists, Inc.; NRG Energy, Inc.; TC Ravenswood, LLC v. New York Independent System Operator, Inc.
E-27 | EL00-95-164 | San Diego Gas & Electric Company v. Sellers of Energy and Ancillary Services Into Markets Operated by the California Independent System Operator Corporation and the California Power Exchange Corporation.
| EL00-98-184 | Investigation of Practices of the California Independent System Operator Corporation and the California Power Exchange Corporation.
E-28 | OMITTED
E-29 | ER08-774-001, ER08-774-001 | Entergy Services, Inc.
E-30 | ER07-694-000 | New England Power Company.
E-31 | ER05-6-093, ER05-6-107 | Midwest Independent Transmission System Operator, Inc.
| EL04-135-096, EL04-135-111 | Midwest Independent Transmission System Operator, Inc. and PJM Interconnection, L.L.C.
| EL02-111-113, EL02-111-128 | Midwest Independent Transmission System Operator, Inc.
| EL03-212-109, EL03-212-124 | Ameren Services Company.
E-32 | ER07-1372-009, ER07-1372-010 | Midwest Independent Transmission System Operator, Inc.
| ER06-1552-000, ER06-1552-002, ER06-1552-003 | Midwest Independent Transmission System Operator, Inc.
E-33 | ER08-283-002 | New York Independent System Operator, Inc.
E-34 | ER08-370-004 | Missouri River Energy Services and Midwest Independent Transmission System Operator, Inc.
| EL08-22-002 | Missouri River Energy Services and Western Minnesota Municipal Power Agency.
E-35 | ER06-615-027, ER06-615-028 | California Independent System Operator Corporation.
E-36 | EL07-101-001 | American Electric Power Service Corporation v. Midwest Independent Transmission System Operator, Inc. and PJM Interconnection, L.L.C.
| ER05-6-103 | Midwest Independent Transmission System Operator, Inc.
| EL04-135-106 | Midwest Independent Transmission System Operator, Inc. PJM Interconnection, L.L.C.
| EL02-111-123 | Midwest Independent Transmission System Operator, Inc. PJM Interconnection, L.L.C.
| EL03-212-119 | Ameren Services Company.
E-37 | ER08-585-000 | California Independent System Operator Corporation.
E-38 | ER08-808-001, ER08-949-002, ER08-989-002, ER08-992-002, ER08-994-002, ER08-998-002, ER08-1029-001, ER08-1031-001, ER08-1033-001, ER08-1035-001, ER08-1037-001, ER08-1047-001, ER08-1062-001, ER08-1149-002 | Westar Energy, Inc.
E-39 | RM05-35-000 | Standard of Review for Modifications to Jurisdictional Agreement.
E-40 | EL08-86-000 | Renewable Energy Systems Americas Inc. and PEAK Wind Development, LLC v. Otter Tail Power Company and Minnkota Power Cooperative, Inc.
Gas
G-1 | RM07-10-002 | Transparency Provisions of Section 23 of the Natural Gas Act.
G-2 | RM07-9-000 | Review of FERC Form Nos. 6 and 6Q.
G-3 | RP00-107-011 | Williston Basin Interstate Pipeline Company.
G-4 | RP08-426-000, RP08-426-001 | El Paso Natural Gas Company.
G-5 | OMITTED
Hydro
H-1 | P-11945-003 | Symbiotics, LLC.
H-2 | P-12804-000 | Public Utility District No. 1 of Okanogan County, Washington.
H-3 | P-12606-000 | Avista Corporation.
H-4 | P-2545-091 | Avista Corporation.
Certificates
C-1 | CP08-96-000 | Arlington Storage Company, LLC.
C-2 | CP08-418-000 | Southeast Gas Storage, LLC.

Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-29887 Filed 12-16-08; 8:45 am]

BILLING CODE 6717-01-P